DEPARTMENT OF LABOR

Employment and Training Administration

[TA-W-60,086]

Ford Motor Company Product Development and Engineering Center, Dearborn, MI; Notice of Revised Determination on Reconsideration

On May 24, 2007, the Department issued an Affirmative Determination Regarding Application on Reconsideration applicable to workers and former workers of the subject firm. The notice was published in the Federal Register on May 30, 2007 (72 FR 30030).

The previous investigation initiated on September 14, 2006, resulted in a negative determination issued on March 15, 2007, was based on the finding that the subject worker group did not directly support production at the subject firm. The denial notice was published in the Federal Register on March 30, 2007 (72 FR 15168).

In the request for reconsideration the petitioners allege that the petitioning group of workers was in direct support of manufacturing and assembly of Ford automobiles at various Ford Motor Company manufacturing facilities.

A company official was contacted to verify whether workers at the subject facility were supporting production at Ford Motor Company manufacturing facilities. The company official stated that workers of the subject facilities were in direct support of production at Ford Motor Company Atlanta Assembly Plant, Hapeville, Georgia (TA-W-59017), Ford Motor Company Norfolk Assembly Plant, Norfolk, Virginia (TA-W-60,367), Ford Motor Company Twin Cities Assembly Plant, St. Paul, Minnesota (TA-W-60,435), and Ford Motor Company St. Louis Assembly Plant, Hazelwood, Missouri, (TA-W-60,478) during the relevant period. All of the above mentioned production facilities were certified eligible for adjustment assistance during April through December 2006.

The investigation further revealed that employment at the subject firm declined during the relevant period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I determine that increases of imports of articles like or directly competitive with articles produced by Ford Motor Company contributed importantly to the total or partial separation of workers at the subject firm and to the decline in sales or production at that firm or subdivision. In accordance with the provisions of the Act, I make the following certification:

All workers of Ford Motor Company, Product Development and Engineering Center, Dearborn, Michigan, who became totally or partially separated from employment on or after September 14, 2005, through two years from the date of this certification, are eligible to apply for adjustment assistance under Section 223 of the Trade Act of 1974, and are eligible to apply for alternative trade adjustment assistance under Section 246 of the Trade Act of 1974.

Signed at Washington, DC, this 8th day of August 2007.
Elliott S. Kushner,
Certifying Officer, Division of Trade Adjustment Assistance.

[FR Doc. E7-16283 Filed 8-17-07; 8:45 am]

BILLING CODE 4510-FN-P